DEPARTMENT OF COMMERCE

International Trade Administration

[A-337-803]

Fresh Atlantic Salmon from Chile: Amended Final Results of 2000-2001 Administrative Review

AGENCY: Import Administration, International Trade Administration, Department of Commerce.

EFFECTIVE DATE: March 24, 2003.

SUMMARY: On February 11, 2003, the Department of Commerce (the Department) published in the Federal Register the Final Results of the administrative review of the antidumping duty order on fresh Atlantic salmon from Chile for the period July 1, 2000, through June 30, 2001. See Notice of Final Results of Antidumping Duty Administrative Review, Final Determination to Revoke the Order in Part, and Partial Rescission of Antidumping Duty Administrative Review: Fresh Atlantic Salmon From Chile, 68 FR 6878 (February 11, 2003) (Final Results). Based on the correction of a ministerial error, we have made a change to the margin calculation for respondents Cultivadora de Salmones Linao Ltda. and Salmones Tecmar S.A (collectively, Linao and Tecmar). However, the margin for Linao and Tecmar continues to be de minimis.

FOR FURTHER INFORMATION CONTACT: Daniel O'Brien or Constance Handley, at (202) 482-1376 or (202) 482-0631, respectively, AD/CVD Enforcement Office V, Group II, Import Administration, International Trade Administration, U.S. Department of Commerce, 14th Street & Constitution Avenue, NW, Washington, DC 20230.

SUPPLEMENTARY INFORMATION:

Background

On February 11, 2003, the Department published in the Federal Register the Final Results of this administrative review.¹ In the Final Results, Linao and Tecmar received a de minimis margin of 0.29 percent. On February 11, 2003, L.R. Enterprises made a timely allegation that the Department had made an error in the calculation of the final margin for Linao and Tecmar. Specifically, L.R. Enterprises alleged that the Department incorrectly calculated the constructed export price (CEP) profit ratio in the margin program for the second sub-period.² See Memorandum from Daniel O'Brien, Case Analyst, to Holly Kuga, Acting Deputy Assistant Secretary, Group 2 concerning the ministerial error allegation, dated March 12, 2003 (Ministerial Error Memo).

¹ On March 7, 2003, the Department published in the Federal Register an Amended Final Results of 2000-2001 Administrative Review. In this amended final, the effective date of revocation was established for the companies which were granted revocation from the order.

² We note that Linao and Tecmar were affiliated for only part of the period of review (POR). For the period November 15, 2000 through June 30, 2001 we collapsed Linao and Tecmar for purposes of our analysis. The final cash deposit rate was based on a weighted-average of the margins calculated for the two separate companies prior to November 15, 2000 (sub-period 1) and the margin calculated for the combined entity after that date (sub-period 2). L.R. Enterprises' allegation relates to the margin program for the combined entity.

Amended Final Results

After analyzing the ministerial error comment submitted by L.R. Enterprises, we have determined, in accordance with section 771(h) of the Tariff Act of 1930, as amended (the Act), and 19 CFR 351.224, that a ministerial error in the margin calculation for Linao and Tecmar was made.

After correcting the ministerial error the revised weighted-average margin is 0.31 percent, which is de minimis. The importer specific assessment rates are unchanged.

Assessment Rates

Absent an injunction from the U.S. Court of International Trade, the Department will issue appropriate assessment instructions directly to Customs within fifteen days of publication of these amended final results of review.

We are issuing and publishing this determination and notice in accordance with sections 751(a)(1) and 777(i) of the Act.

Dated: March 17, 2003.
Joseph A. Spetrini,
Acting Assistant Secretary for Import Administration.

[FR Doc. 03-6939 Filed 3-21-02; 8:45 am]

BILLING CODE 3510-DS-S